DEPARTMENT OF DEFENSE

Department of the Navy

32 CFR Part 706

Certifications and Exemptions Under the International Regulations for Preventing Collisions at Sea, 1972; Amendment

Correction

In rule document 01-26642 beginning on page 53528 in the issue of Tuesday, October 23, 2001, make the following corrections:

(1) On page 53528 in the second column the EFFECTIVE DATE: is corrected to read November 28, 2000.

(2) On page 53529, the date of the signature is corrected to read;

Dated: November 28, 2001.

[FR Doc. C1-26642 Filed 11-6-01; 8:45 am]

BILLING CODE 1505-01-D

DEPARTMENT OF JUSTICE

Foreign Claims Settlement Commission

45 CFR CH. V

Commission's Structures, Functions, Rules of Procedure, and Responsibilities

Correction

In the issue of Thursday, October 25, 2001, on page 54061, in the first column, in the correction of rule document C1-24399, make the following corrections:

1. In the last line of the second paragraph, “appeard” should read, “appeared”.

2. The section heading,

§506:18 Entitlement of survivors to award in case of death of prisoner of war. [Corrected]

should read,

§506.18 Entitlement of survivors to award in case of death of prisoner of war.

[FR Doc. C1-24399 Filed 11-6-01; 8:45 am]

BILLING CODE 1505-01-D

SECURITIES AND EXCHANGE COMMISSION

[Release No. 34-44960; File No. SR-NSCC-2001-14]

Self-Regulatory Organizations; National Securities Clearing Corporation; Notice of Filing and Immediate Effectiveness of Proposed Rule Change Relating to Data Services Only Members

Correction

In notice document 01-26896 beginning on page 54045 in the issue of Thursday, October 25, 2001 make the following correction:

On page 54045, in the first column, the docket line is corrected to read as set forth above.

[FR Doc. C1-26896 Filed 11-6-01; 8:45 am]

BILLING CODE 1505-01-D

SECURITIES AND EXCHANGE COMMISSION

[Release No. 34-44962; File No. SR-NYSE-2001-42]

Self-Regulatory Organizations; Notice of Filing of Proposed Rule Change by the New York Stock Exchange, Inc., Establishing the Fees for NYSE OpenBook™

October 19, 2001.

Correction

In notice document 01-27131 beginning on page 54562 in the issue of Monday, October 29, 2001, make the following correction:

On page 54562, the heading is corrected to include the date as set forth above.

[FR Doc. C1-27131 Filed 11-6-01; 8:45 am]

BILLING CODE 1505-01-D

SECURITIES AND EXCHANGE

17 CFR Part 204

[Release No. 34-44965]

RIN 3235-A134

Debt Collection—Amendments to Collection Rules and Adoption of Wage Garnishment Rules

Correction

In rule document 01-26960 beginning on page 54125 in the issue of Friday, October 26, 2001, make the following corrections:

§204.52 [Corrected]

1. On page 54132, in the second column, in §204.52(c) in the first line, paragraph “(C)” should read “(c)”.

§204.53 [Corrected]

2. On the same page, in the same column, in §204.53, in amendatory instruction 27 “Section 24.53” should read “Section 204.53”.

[FR Doc. C1-26960 Filed 11-6-01; 8:45 am]

BILLING CODE 1505-01-D